DEPARTMENT OF HEALTH AND HUMAN SERVICES

Centers for Medicare & Medicaid Services

[Document Identifier: CMS-10105 and CMS-10407]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 12, 2019.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10105 National Implementation of the In-Center Hemodialysis CAHPS Survey

CMS-10407 Summary of Benefits and Coverage and Uniform Glossary

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension without change of a currently approved collection; Title of Information Collection: National Implementation of the In-Center Hemodialysis CAHPS Survey; Use: The Centers for Medicare & Medicaid Services (CMS) is requesting clearance from the Office of Management and Budget (OMB) to continue the In-center Hemodialysis CAHPS (ICH CAHPS) Survey to measure patients' experience of care with in-center hemodialysis (ICH) facilities. Data collected in the national implementation of the ICH CAHPS Survey are used for the following purposes: To provide a source of information from which selected measures can be publicly reported to beneficiaries as a decision aid for dialysis facility selection; to aid facilities with their internal quality improvement efforts and external benchmarking with other facilities; to provide CMS with information for monitoring and public reporting purposes; and to support the ESRD value-based purchasing program. Form Number: CMS-10105 (OMB control number: 0938-0926); Frequency: Yearly; Affected Public: State, Local, or Tribal Governments; Number of Respondents: 108,800; Total Annual Responses: 108,800; Total Annual Hours: 58,753. (For policy questions regarding this collection contact Julia Zucco at 410-786-6677.)

2. Type of Information Collection Request: Reinstatement with change of a previously approved collection; Title of Information Collection: Summary of Benefits and Coverage and Uniform Glossary; Use: This information collection will ensure that consumers shopping for or enrolled in private, individually purchased, or non-federal governmental group health plan coverage receive the consumer protections of the Affordable Care Act. Employers, employees, and individuals will use this information to compare coverage options prior to selecting coverage and to understand the terms of, and extent of medical benefits offered by, their coverage (or exceptions to such coverage or benefits) once they have coverage. CMS recently received OMB approval for a non-substantive change to the SBC calculator. Specifically, CMS requested that issuers begin using an updated 2020 SBC calculator starting on or after January 1, 2020. However, at this time, CMS is alerting issuers to immediately discontinue use of the 2020 calculator. Until further notice from CMS, issuers should revert back to using the 2017 SBC Calculator and all associated materials (including the 2017 SBC Calculator Excel file, the Guides and Narratives for the coverage examples, and the calculator instructions) to calculate coverage example costs for the SBC. Form Number: CMS-10407 (OMB control number: 0938-1146); Frequency: Yearly; Affected Public: Private Sector—Business or other for-profits and not-for-profit institutions; Number of Respondents: 128,511; Total Annual Responses: 24,433,233; Total Annual Hours: 41,551. (For policy questions regarding this collection contact Jessica Weinberg at 301-492-4404.)

Dated: May 8, 2019.
William N. Parham, III,
Director, Paperwork Reduction Staff, Office of Strategic Operations and Regulatory Affairs.

[FR Doc. 2019-09781 Filed 5-10-19; 8:45 am]

BILLING CODE 4120-01-P